INTERNATIONAL TRADE COMMISSION

[Investigation Nos. 701-TA-488 and 731-TA-1199-1200 (Final)]

Large Residential Washers From Korea and Mexico; Revised Schedule for the Subject Investigations

AGENCY: United States International Trade Commission.

ACTION: Notice.

DATES: Effective Date: December 31, 2012.

FOR FURTHER INFORMATION CONTACT: Edward Petronzio (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: On August 3, 2012, the Commission established a schedule for the conduct of the final phase of the subject investigations (77 FR 51569, August 24, 2012). The Commission is revising its schedule as follows: the Commission will make its final release of information on January 16, 2013 and final party comments are due on January 18, 2013.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: December 31, 2012.
By order of the Commission.
William R. Bishop,
Supervisory Hearings and Information Officer.

[FR Doc. 2012-31703 Filed 1-3-13; 8:45 am]

BILLING CODE 7020-02-P